DEPARTMENT OF THE INTERIOR

Bureau of Land Management

[NM-030-1430-EU; NMNM-107572]

Competitive Sale of Public Land in Dona Ana County, New Mexico

AGENCY: Bureau of Land Management (BLM), Interior.

ACTION: Notice.

SUMMARY: The following public land known as the Berino Tract in Dona Ana County, New Mexico, has been examined and found suitable for competitive sale under Sections 203 and 209 of the Federal Land Policy and Management Act (FLPMA) of 1976 (90 Stat. 2750, 43 U.S.C. 1713 and 1719), and the Federal Land Transaction Facilitation Act of July 25, 2000 (Pub. L. 106-248).

New Mexico Principal Meridian

T. 25 S., R. 3 E.,

Section 34, Lots 6 to 8, lots 13 to 15, SW¼SE¼, N½SW¼, SE¼SW¼, E½SW¼SW¼.

T. 26 S., R. 3 E.,

Section 3, N½NE¼.

Containing 396.34 acres more or less.

DATES: Comments on Proposed Competitive Sale: Comments regarding the proposed competitive sale must be received by BLM not later than April 3, 2006.

Sale Date: The competitive sale will be held at the BLM, Las Cruces District Office, 1800 Marquess, Las Cruces, New Mexico, at 10 a.m., m.s.t. on April 18, 2006.

Sealed Bids: Sealed bids must be received by BLM not later than 4:30 p.m., m.s.t. April 18, 2006. Sale Bid Forms will be provided to all prospective bidders prior to the sale. The forms are available at the BLM, Las Cruces District Office, 1800 Marquess, Las Cruces, New Mexico 88005 or by calling (505) 252-4300. The forms should be included in a sealed envelope, and the envelope must be marked on the lower left corner with the sale date and the BLM serial number “NM-107572”.

All oral bidders are required to register. Registration will be held at BLM, Las Cruces District Office, 1800 Marquess, Las Cruces, New Mexico beginning at 8 a.m. m.s.t. on the day of the sale and will end at 10 a.m., m.s.t.

ADDRESSES: BLM, Las Cruces District Office, 1800 Marquess, Las Cruces, New Mexico 88005.

Comments regarding the proposed sale, as well as sealed bids should be submitted to the above address. The Sale Bid and Certification of Qualification forms will be available prior to the sale date at the BLM, Las Cruces District Office or by calling (505) 525-4300. More detailed information regarding the proposed sale and the land involved may be reviewed during normal business hours (7:45 a.m. to 4:30 p.m.) at 1800 Marquess.

FOR FURTHER INFORMATION CONTACT: Angel Mayes, Realty Specialist at the address above or by calling (505) 525-4376.

SUPPLEMENTARY INFORMATION: The land has been authorized and designated for disposal in the Mimbres Resource Management Plan, dated December 1993, and the public interest will be served by offering this land for sale. The land is hereby classified for disposal in accordance with Executive Order No. 6910, and with Section 7 of the Taylor Grazing Act, 43 U.S.C. 315F. The proposed land will be put up for sale by competitive auction on April 18, 2006.

The auction will be held in accordance with the applicable provisions of Section 203 and 209 of FLPMA (43 U.S.C. 1713 and 1719), respectively, and its implementing regulations, 43 CFR part 2710 and 2711, at not less than the fair market value (FMV) for the parcel. The appraised market value of the subject property is $879,000 (eight hundred and seventy-nine thousand dollars and no cents).

The purpose of this sale is to dispose of a tract of land that will serve important public objectives, including but not limited to, expansion of communities and economic development, which cannot be achieved prudently or feasibly on land other than public land. The sale of this land outweighs other public objectives and values, including, but not limited to, recreation and scenic values, which would be served by maintaining such tract in Federal ownership. The sale does not affect a grazing allotment. No significant resource values will be affected by this transfer.

The locatable, salable, and leasable mineral rights will be conveyed simultaneously with the surface estate. The disposal would not generate any adverse energy impacts or limit energy production and distribution (Executive Order 13212). It has been determined that the subject parcel contains no mineral value. Acceptance of a sale offer will constitute an application for conveyance of these mineral interests. In conjunction with the final payment, the applicant will be required to pay a $50.00 non-refundable filing fee for processing the conveyance of the mineral interests when remitting final payment for the parcel.

On February 17, 2006, the above described land will be segregated from all other forms of appropriation under the public land laws, including the general mining laws and leasing under the mineral leasing laws. Upon publication of this notice and until completion of the sale, the BLM will no longer accept land use applications affecting the parcel identified for sale. The segregative effect of this notice shall terminate upon issuance of the patent, upon publication in the Federal Register of a termination of the segregation, or 270 days from the date of publication, whichever occurs first.

Terms and Conditions of Sale: The terms and conditions applicable to this sale are as follows:

1. Federal law requires all bidders must be United States citizens and 18 years of age or older; or

(a) A corporation subject to the laws of any State or of the United States;

(b) A State, State instrumentality, or political subdivision authorized to hold property; or

(c) An entity legally capable of conveying and holding lands or interests therein under the laws of the State of New Mexico.

Certification of qualifications, including citizenship, corporation or partnership, must accompany the bid deposit. Bids must be made by the principal or his duly qualified agent. Certification of Qualifications Forms are available at the BLM, Las Cruces District Office, 1800 Marquess, Las Cruces, New Mexico 88005 or by calling (505) 525-4300.

2. Sealed bids shall be considered only if received at the BLM Las Cruces District Office, 1800 Marquess, Las Cruces, New Mexico by not later than 4:30 p.m., m.s.t. April 18, 2006. Each sealed bid shall be enclosed in a sealed envelope, and include a completed sealed bid form, accompanied by a certified check, postal money order, bank draft, or cashier's check made payable to the Department of the Interior, Bureau of Land Management for not less than 10 percent or more than 30 percent of the bid amount. Sealed bids of less than the appraised FMV will be rejected. The highest qualified sealed bid received shall be publicly declared and will become the starting point for the oral auction. In the event that two or more sealed bids are received containing valid bids of the same amount, the determination of which is to be considered the highest designated bid will be by supplemental oral bidding. If no sealed bids are received, oral bidding will begin at the appraised FMV.

The highest qualifying bid for the parcel, whether sealed or oral, will be declared the high bid. The high bidder, if an oral bidder, must submit the full deposit amount (not less than 20 percent of the amount of the successful bid) by 4:30 p.m. m.s.t. on the day of the sale in the form of cash, personal check, bank draft, cashier's check, money order or any combination thereof, made payable to the Department of the Interior, Bureau of Land Management. Should the high bidder default, the next high bidder for the parcel will be declared the high bidder.

The successful bidder, whether sealed or oral, shall submit the remainder of the full bid price prior to the expiration of 180 days from the date of the sale in the form of cash, personal check, bank draft, cashier's check, money order or any combination thereof, made payable to the Department of the Interior, Bureau of Land Management. Failure to submit the full bid price prior to, but not including the 180th day following the day of the sale, shall result in cancellation of the sale and the deposit shall be forfeited.

3. The BLM may accept or reject any or all offers, or withdraw any parcel of land or interest therein from sale, if, in the opinion of the authorized officer, consummation of the sale would not be fully consistent with FLPMA or other applicable laws. If not sold, the parcel may be identified for sale at a later date without further legal notice.

In order to establish the FMV for the subject public land through appraisal, certain assumptions have been made of the attitudes and limitations of the land and potential effects of local regulations and policies on potential future land uses.

Through publication of this notice, BLM gives notice that these assumptions may not be endorsed or approved by units of local government. It is the buyer's responsibility to be aware of all applicable local government policies, laws, and regulations that would affect the subject land, including any required dedication of land for public uses. No warranty of any kind shall be given or implied by the United States as to the potential uses of the land offered for sale. Furthermore, conveyance of the subject land will not be on a contingency basis. It is also the buyer's responsibility to be aware of existing or projected use of neighboring and nearby properties. When conveyed out of Federal ownership, the land will be subject to any applicable reviews and approvals by the respective unit of local government for proposed future uses, and any such reviews and approvals would be the responsibility of the buyer.

4. A right-of-way is reserved for ditches and canals constructed by the authority of the United States pursuant to the Act of August 30, 1890 (26 Stat. 391; 43 U.S.C. 945).

5. The United States reserves a right-of-way, NMNM-83962, issued July 23, 1992 without expiration, issued to the New Mexico State Highway Department and Transportation Department for the construction and maintenance of a frontage road west of and parallel to Interstate-10.

6. The United States reserves three rights-of-way issued to the Federal Aid Highways under the Act of August 27, 1958, as amended, (23 U.S.C. 317) (1964) as having been granted by rights-of-way numbers: NMNM-0016686, NMNM-0088421, and NMNM-00184144.

7. The United States reserves a right-of-way, NMNM-114841, issued pursuant to the Act of October 21, 1976, (43 U.S.C. 1761); located in the S½S½S½ of Section 34, T. 25 S., R. 3 E., NMPM. The right-of-way has been issued to the United States of America, administered through the BLM, or its assigns, will have a right to construct, use, control, maintain and to improve a roadway or trail for the purpose of accessing 20 acres identified for retention, located in the W½SW¼SW¼ of Section 34, T 25 S. R 3 E., NMPM.

8. The parcel is subject to valid existing rights-of-way and easements.

9. The parcel is subject to those rights for a 69 Kv power transmission line granted to El Paso Electric Company, 2.861 miles in length by 40 feet wide, by right-of-way grant NMLC-0042017 on December 1, 1930, pursuant to the Act of March 4, 1911, (36 Stat., 1235, 1253); 43 U.S.C. 961) as amended and converted to the Act of October 21, 1976, (43 U.S.C. 1761) as to lot 7 and 14, NE¼SW¼ and SW¼SE¼ of Section 34, T. 25 S., R. 3 E., and N½NE¼ of Section 3, T. 26 S., R. 3 E., NMPM.

10. The parcel is subject to those rights for an underground fiber optic cable granted to Qwest Corporation, 2.9 miles in length by 10 feet wide, by right-of-way NMNM-069990 issued on February 26, 1993, pursuant to the Act of October 21, 1976, (43 U.S.C. 1761) as to the NE¼NE¼ Section 3, T. 26 S., R. 3 E. NMPM New Mexico.

11. The parcel is subject to those rights for an overhead power transmission line granted to El Paso Electric Company, 2.58 miles in length by 40 feet wide, by right-of-way grant NMNM-30519 on November 9, 1977, pursuant to the Act of October 21, 1976, (43 U.S.C. 1761) as to SE¼NW¼, NE¼SW¼, W½SE¼, Section 34, T. 25 S., R. 3 E., and N½NE¼, Section 3, T. 26 S., R. 3 E., NMPM.

12. The parcel is subject to those rights for an electrical transmission power line granted to El Paso Electric Company, 2.916 miles in length by 25 feet wide, by right-of-way grant NMNM-0029817 issued on December 3, 1956, pursuant to the Act of March 4, 1911, (36 Stat., 1235, 1253), as to lot 13 Section 34, T. 25 S., R. 3 E., NMPM.

Public Comments

Interested parties may submit written comments regarding the proposed sale to the District Manager, BLM, Las Cruces District Office not later than April 3, 2006. Any adverse comments will be reviewed by the BLM Las Cruces District Manager, who may sustain, vacate, or modify this action in whole or in part. In the absence of any adverse comments, this action will become the final determination of the Department of the Interior. Any comments received during this process, as well as the commenter's name and address, will be available to the public in the administrative record or pursuant to a Freedom of Information Act request. You may indicate for the record that you do not wish to have your name or address made available to the public. Any determination by the BLM to release or withhold the names or addresses of those who comment will be made on a case-by-case basis. A request from a commenter to have their name or address withheld from public release will be honored to the extent permissible by laws. BLM will not accept anonymous comments.

Detailed information concerning the sale, including the restrictions, reservations, sale procedures and conditions, and planning and environmental documents is available for review at the BLM, Las Cruces District Office or by calling (505) 525-4300.

Dated: December 23, 2005.
Edwin L. Roberson,
District Manager, Las Cruces.

[FR Doc. E6-2294 Filed 2-16-06; 8:45 am]

BILLING CODE 4310-VC-P